DEPARTMENT OF THE INTERIOR

Bureau of Land Management

[LLOWO31000-14-L13100000-EI0000]

Updated Policy Regarding the Handling of Expressions of Interest

AGENCY: Bureau of Land Management, Interior.

ACTION: Notice.

SUMMARY: This notice is to inform the public about a policy document that the Bureau of Land Management (BLM) issued on October 28, 2013, that states that BLM will publish information on Expression of Interest (EOI) submissions that BLM receives after January 1, 2014. The policy document directs its state offices to advise EOI submitters that BLM does not require their name and address to be included in their submission and EOI submitters may exclude any information they consider privileged or confidential. Under the updated policy, inclusion of names and addresses will effectively operate as consent to release and the BLM will no longer hold that information confidential until two days after an Oil and Gas Competitive Lease Sale. Rather, the BLM will publish the EOI submitter names, if provided, on the BLM state office Web sites before the lease sale.

FOR FURTHER INFORMATION CONTACT: Atanda Clark, Senior Mineral Leasing Specialist, BLM, Washington Office, 20 M St. SE., Washington DC 20003. Ms. Clark may also be reached at 202-912-7156. Persons who use a telecommunications device for the deaf (TDD) may call the Federal Information Relay Service (FIRS) at 1-800-877-8339 to leave a message or question for the above individual. The FIRS is available 24 hours a day, seven days a week. Replies are provided during normal business hours.

SUPPLEMENTARY INFORMATION: On October 28, 2013, the Bureau of Land Management (BLM) issued Instruction Memorandum No. 2014-004 to update the policy regarding its handling of EOIs. EOIs are informal nominations by the public that identify lands the BLM should consider for inclusion in future Oil and Gas Competitive Lease Sales. Under the updated policy, for any EOIs submitted on or after January 1, 2014, the BLM will no longer hold submitter names and addresses as confidential until two days after an Oil and Gas Competitive Lease Sale as it has done previously, but rather the BLM will publish the EOI submitter names and addresses, if provided, on the BLM state office Web sites before the lease sale. This approach will give an EOI submitter the option to submit an EOI anonymously without the submitter's name included or to submit an EOI with the submitter's name included to allow the BLM to publish that information on the appropriate BLM state office Web site. The BLM will publish all EOIs received after January 1, 2014, including the submitter's name.

For more information regarding this updated policy, see BLM, WO IM No. 2014-004 located at http://www.blm.gov/wo/st/en/info/regulations/Instruction_Memos_and_Bulletins/national_instruction/2014/im_2014_004_oil_and.html.

For any EOIs submitted before January 1, 2014, the BLM will determine whether to release the submitter's name in response to any Freedom of Information Act request on a case-by-case basis.

Michael D. Nedd,
Assistant Director, Energy, Minerals and Realty Management Directorate.

[FR Doc. 2013-31593 Filed 12-31-13; 4:15 pm]

BILLING CODE 4310-84-P